DEPARTMENT OF HEALTH AND HUMAN SERVICES

Centers for Disease Control and Prevention

[30Day-10-0696]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

HIV Prevention Program Evaluation and Monitoring System for Health Departments and Community-Based Organizations (PEMS)—Revision—(OMB No. 0920-0696 exp. 8/31/2010)—National Center for HIV/AIDS, Viral Hepatitis, STD, and TB Prevention (NCHHSTP), Centers for Disease Control and Prevention (CDC).

Background and Brief Description

This is a revision of a data collection that is being incrementally implemented. The currently approved collection under the HIV Prevention Program Evaluation and Monitoring System for Health Departments and Community-Based Organizations (PEMS, 0920-0696) was approved on August 22, 2007, for three years (until August 31, 2010). This revision includes a request to change the title to “National HIV Prevention Program Monitoring and Evaluation (NHM&E) Data”. The purpose of this request is to collect standardized HIV prevention program monitoring and evaluation data from health department and community-based organization (CBO) grantees. Standardized data on agencies, program plans, HIV testing, health education/risk reduction, health communication/public information, and partner services has begun during the three years of the previous approval. Analysis and reporting of these data to stakeholders, including HHS and Congress, has also begun and the intent is to continue both data collection and reporting on an on-going basis.

Per HIV prevention cooperative agreements, CDC requires non-identifying, client-level, standardized evaluation data from health department and CBO grantees to: (1) More accurately determine the extent to which HIV prevention efforts have been carried out, what types of agencies are providing services, what resources are allocated to those services, to whom services are being provided, and how these efforts have contributed to a reduction in HIV transmission; (2) improve ease of reporting to better meet these data needs; and (3) be accountable to stakeholders by informing them of efforts made and use of funds in HIV prevention nationwide.

Although CDC received evaluation data from grantees prior to the PEMS, the data received previously were insufficient for evaluation and accountability. Furthermore, there was not standardization of required evaluation data from both health departments and CBOs. Changes to the evaluation and reporting process were necessary to ensure CDC receives standardized, accurate, thorough evaluation data from both health department and CBO grantees. For these reasons, CDC developed the PEMS (now NHM&E) variables through consultation with representatives from health departments, CBOs, and national partners (e.g., The National Alliance of State and Territorial AIDS Directors, Urban Coalition of HIV/AIDS Prevention Services, and National Minority AIDS Council).

Respondents will collect, enter, and report general agency information, program model and budget data, and client demographics and behavioral risk characteristics. (Data collection will include searching existing data sources, gathering and maintaining data, document compilation, review of data, and data entry.) Agencies will submit data quarterly. There are no costs to respondents. The total estimated annual burden hours are 298,660.

Estimate of Annualized Burden
Respondents | Number of respondents | Number of responses per respondent | Average burden per response (in hours)
Health jurisdictions | 65 | 4 | 138
Health jurisdictions (CTR-scan) | 30 | 4 | 616
Health jurisdictions (CTR non-scan) | 35 | 4 | 439
Health jurisdictions (Training) | 65 | 4 | 10
Community-Based Organizations | 300 | 4 | 84
Community-Based Organizations (CTR) | 100 | 4 | 30
Community-Based Organizations (Training) | 300 | 4 | 10

Dated: June 16, 2010.
Maryam I. Daneshvar,
Reports Clearance Officer, Centers for Disease Control and Prevention.

[FR Doc. 2010-15170 Filed 6-22-10; 8:45 am]

BILLING CODE 4163-18-P